COMMODITY FUTURES TRADING COMMISSION

Meeting; Sunshine Act

TIME AND DATE: 10:00 a.m., Friday, January 24, 2014.

PLACE: Three Lafayette Centre, 1155 21st Street, NW., Washington, DC, 9th Floor Commission Conference Room.

STATUS: Closed.

MATTERS TO BE CONSIDERED: Surveillance, enforcement, and examinations matters. In the event that the times, dates or locations of this or any future meetings change, an announcement of the change, along with the new time, date and location of the meeting will be posted on the Commission's Web site at http://www.cftc.gov.

CONTACT PERSON FOR MORE INFORMATION: Melissa D. Jurgens, 202-418-5516.

Christopher J. Kirkpatrick,
Deputy Secretary of the Commission.

[FR Doc. 2014-00538 Filed 1-9-14; 4:15 pm]

BILLING CODE 6351-01-P